DEPARTMENT OF COMMERCE

National Oceanic and Atmospheric Administration

RIN 0648-XR039

Marine Mammals; File No. 22677

AGENCY: National Marine Fisheries Service (NMFS), National Oceanic and Atmospheric Administration (NOAA), Commerce.

ACTION: Notice; receipt of application.

SUMMARY: Notice is hereby given that NMFS Pacific Islands Fisheries Science Center, Hawaiian monk seal Research Program (Responsible Party, Charles Littnan), has applied in due form for a permit to conduct research and enhancement activities on Hawaiian monk seals (Neomonachus schauinslandi).

DATES: Written, telefaxed, or email comments must be received on or before November 25, 2019.

ADDRESSES: The application and related documents are available for review by selecting “Records Open for Public Comment” from the “Features” box on the Applications and Permits for Protected Species (APPS) home page, https://apps.nmfs.noaa.gov, and then selecting File No. 22677 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year permit to carry out research and enhancement activities designed to recover the endangered Hawaiian monk seal. Activities would occur along beaches and nearshore waters throughout the Hawaiian Archipelago (Northwestern Hawaiian Islands [NWHI] and main Hawaiian Islands [MHI]) and Johnston Atoll.

Research is intended to identify impediments to recovery, inform the design of conservation interventions, and evaluate those measures. Research activities include visual and photographic monitoring, tagging, pelage bleach/dye marking, health screening, foraging studies, deworming research, necropsies, tissue sampling, import/export of parts, behavioral modification research, vocalization studies and vaccination research.

Enhancement activities are designed to improve the survival and reproductive success of individual monk seals, with the intent to improve subpopulation and overall species' status. Enhancement activities include deworming, translocation, hazing and removal of aggressive adult male seals that harm or kill other seals, disentangling, dehooking, medical treatment, behavioral modification, vaccination, and supplemental feeding of post-release rehabilitated seals.

Annual number of individual seals to be taken by take type (annually, unless otherwise specified) could be up to 1,500 for monitoring, 400 for tagging, 1,200 for bleach/dye marking, 150 for health screening, 10 moribund seals by euthanasia, 80 instrumentations, 300 for deworming treatments, 80 for acoustic recording, translocations of nursing pups to birth or foster mothers as warranted (estimated 20 pups), translocations to alleviate risk as warranted (estimated 60 seals), translocations to the NWHI of any age seal in the MHI with unmanageable behavior to alleviate risk to humans and the seals involved (as warranted but likely not to exceed 2 per year), translocation of 20 weaned pups and 30 juvenile/subadults as one-way or as part of two-stage translocation for enhancement, hazing aggressive adult males from conspecifics as warranted (estimated 10 seals), 20 adult male removals (including up to 10 lethal removals over five years), unlimited (i.e., as warranted) disentanglements, dehookings, necropsies, opportunistic samplings and import/exports (including import and export of Mediterranean monk seal samples for research and conservation purposes), 12 seals supplementary fed, 50 seals subject to behavioral modification, 1,500 seals vaccinated, and 200 incidentally harassed. Research on captive monk seals to test and validate field studies is proposed. The applicant also requests the following unintentional lethal takes or mortalities: Two seals annually not to exceed four animals in five years during research, two seals annually not to exceed four weaned pups in five years during enhancement, four juveniles/subadults not to exceed eight animals in five years during enhancement, two adult males not to exceed four across five years during enhancement activities. Up to 500 spinner dolphins (Stenella longirostris), and 20 bottlenose dolphins (Tursiops truncatus) may be incidentally harassed annually during research and enhancement activities.

In compliance with the National Environmental Policy Act of 1969 (42 U.S.C. 4321 et seq.), an initial determination has been made that the activities proposed are consistent with the Preferred Alternative in the Final Hawaiian Monk Seal Recovery Actions Programmatic Environmental Impact Statement (NMFS 2014), and that issuance of the permit would not have a significant adverse impact on the human environment.

Concurrent with the publication of this notice in the Federal Register, NMFS is forwarding copies of the application to the Marine Mammal Commission and its Committee of Scientific Advisors.

Dated: October 21, 2019.
Julia Marie Harrison,
Chief, Permits and Conservation Division, Office of Protected Resources, National Marine Fisheries Service.

[FR Doc. 2019-23230 Filed 10-23-19; 8:45 am]

BILLING CODE 3510-22-P